DEPARTMENT OF AGRICULTURE

Forest Service

Notice of New Fee Site; Federal Lands Recreation Enhancement Act, (Title VIII, Pub. L. 108-447)

AGENCY: Chattahoochee-Oconee National Forest, USDA Forest Service.

ACTION: Notice of New Fee Site.

SUMMARY: The Chattahoochee-Oconee National Forests' Oconee Ranger District will begin charging a $5.00 daily special recreation permit trail fee per tow vehicle at the Ocmulgee Bluff Equestrian Trailhead. Construction of the site was completed in 2005. This new equestrian trailhead will facilitate equestrian use on the existing trail system located on the Chattahoochee-Oconee National Forests' Oconee Ranger District. Funds collected will be used for the continued operation and maintenance of the equestrian trailhead parking facility and trail system.

DATES: Ocmulgee Bluff Equestrian Trailhead and Trail fee would be collected beginning in the summer 2006. The site is presently available for use.

ADDRESSES: Forest Supervisor, Chattahoochee-Oconee National Forests, 1755 Cleveland Highway, Gainesville, GA 30501.

FOR FURTHER INFORMATION CONTACT: Carolyn Hoffmann, Recreation Fee Coordinator, 770-297-3030

SUPPLEMENTARY INFORMATION: The Federal Recreation Lands Enhancement Act (Title VII, Pub. L. 108-447) directed the Secretary of Agriculture to publish a six month advance notice in the Federal Register whenever new recreation fee areas are established.

The Chattahoochee-Oconee National Forest's, Oconee Ranger District currently has no other existing equestrian trailhead access designed specifically to accommodate horseback riders. Recreation surveys and public involvement has shown that people desire having this sort of recreation experience on the Oconee Ranger District. A market analysis indicates that the $5/per day is both reasonable and acceptable for this sort of unique recreation experience. The Ocmulgee Bluff Equestrian Trailhead and Trail will offer access to 18 miles of equestrian trails, and accessible facilities such as a vault toilet, designated parking designed to accommodate horse trailers, picnic tables, trash receptacles, horse hitching area, bulletin board, interpretive board, and other amenities. Reservations are not accepted, use is on a first come, first served basis.

Dated: December 20, 2005.
Larry M. Luckett,
Acting Forest Supervisor.

[FR Doc. E5-7846 Filed 12-23-05; 8:45 am]

BILLING CODE 3410-11-P